DEPARTMENT OF ENERGY

Federal Energy Regulatory Commission

[Docket No. CP16-12-000]

Tennessee Gas Pipeline Company, LLC; Notice of Schedule for Environmental Review of the Southwest Louisiana Supply Project

On October 26, 2015, Tennessee Gas Pipeline Company, LLC (Tennessee) filed an application in Docket No. CP16-12-000 requesting a Certificate of Public Convenience and Necessity pursuant to section 7(c) of the Natural Gas Act to construct and operate certain natural gas pipeline facilities located in Franklin, Rapides, Richland, and Madison Parishes, Louisiana. The proposed project is known as the Southwest Louisiana Supply Project (Project), and would provide 295,000 dekatherms per day of incremental capacity to serve Mitsubishi Corporation and MMGS, Inc.

On November 9, 2015, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—September 29, 2016

90-day Federal Authorization Decision Deadline—December 28, 2016

If a schedule change becomes necessary, additional notice will be provided so that the relevant agencies are kept informed of the Project's progress.

Project Description

Tennessee proposes to construct a 2.4-mile-long, 30-inch-diameter pipeline lateral in Madison Parish, Louisiana; a 1.4-mile-long, 30-inch-diameter pipeline lateral in Richland and Franklin Parishes, Louisiana; five meter stations to allow Tennessee to receive gas on its existing 800 Line from five interconnecting pipelines; one new compressor station in Franklin Parish, Louisiana; and replace a gas turbine engine at an existing compressor station in Rapides Parish, Louisiana.

Background

On December 9, 2015, the Commission issued a Notice of Intent to Prepare an Environmental Assessment for the Proposed Southwest Louisiana Supply Project and Request for Comments on Environmental Issues (NOI). The NOI was sent to affected landowners; federal, state, and local government agencies; elected officials; environmental and public interest groups; Native American tribes; other interested parties; and local libraries and newspapers. In response to the NOI, the Commission received recommendations from the U.S. Army Corps of Engineers; the State of Louisiana Department of Wildlife and Fisheries, Office of Wildlife; the State of Louisiana Department of Culture, Recreation & Tourism, Office of Cultural Development; and the Choctaw Nation of Oklahoma. The primary issues raised by the commenters are recommendations on avoiding impacts on cultural resources, wildlife, and wetlands.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-12-000), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: July 7, 2016.
Kimberly D. Bose,
Secretary.

[FR Doc. 2016-16667 Filed 7-13-16; 8:45 am]

BILLING CODE 6717-01-P